DEPARTMENT OF COMMERCE

National Oceanic and Atmospheric Administration

[I.D. 111802C]

Marine Mammals; File No. 995-1608

AGENCY: National Marine Fisheries Service (NMFS), National Oceanic and Atmospheric Administration (NOAA), Commerce.

ACTION: Issuance of permit amendment.

SUMMARY: Notice is hereby given that Mr. Thomas F. Norris, Science Applications International Corp., 3990 Old Town Avenue, Suite 105A, San Diego, California 92110 has been issued an amendment to scientific research Permit No. 995-1608.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Southwest Region, NMFS, 501 West Ocean Blvd., Suite 4200, Long Beach, CA 90802-4213; phone (562)980-4001; fax (562)980-4018; and

Protected Species Coordinator, Pacific Area Office, NMFS, 1601 Kapiolani Blvd., Rm, 1110, Honolulu, HI 96814-4700; phone (808)973-2935; fax (808)973-2941.

FOR FURTHER INFORMATION CONTACT: Dr. Tammy Adams or Ruth Johnson, (301)713-2289.

SUPPLEMENTARY INFORMATION: On December 21, 2000, notice was published in the Federal Register (65 FR 80420) that a request for a scientific research permit to take gray (Eschrichtius robustus), minke (Balaenoptera acutorostrata), Bryde's (Balaenoptera edeni), blue (Balaenoptera musculus), fin (Balaenoptera physalus), and humpback (Megaptera novaengliae) whales had been submitted by the above-named individual. Permit No. 995-1608 was issued on May 4, 2001 (66 FR 23884, May 10, 2001) for takes of gray, minke, and Bryde's whales by attachment of scientific instruments, photo-identification, behavioral observation, and incidental harasment. Authorization to take endangered blue, fin and humpback whales was deferred pending receipt of additional information and consultation required under Section 7 of the Endangered Species Act. The amendment to include takes of these endangered species has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

The amended permit authorizes takes of up to 11 each of blue, fin, and humpback whales per year by attachment of scientific instruments, photo-identification, and behavioral observation and up to 20 whales of each species by harassment incidental to these activities.

Issuance of this amendment, as required by the ESA was based on a finding that such permit (1) was applied for in good faith, (2) will not operate to the disadvantage of the endangered species which is the subject of this permit, and (3) is consistent with the purposes and policies set forth in section 2 of the ESA.

December 4, 2002.
Eugene T. Nitta,
Acting Chief, Permits, Conservation and Education Division, Office of Protected Resources, National Marine Fisheries Service.

[FR Doc. 02-31445 Filed 12-12-02; 8:45 am]

BILLING CODE 3510-22-S